DEPARTMENT OF ENERGY

Federal Energy Regulatory Commission

[Docket No. CP01-43-000]

Equitrans, L.P.; Notice of Application

December 6, 2000.

The notice that on December 1, 2000, Equitrans, L.P. (Equitrans). 100 Allegheny Center Mall, Pittsburgh, Pennsylvania, filed in Docket No. CP01-43-000 an abbreviated application pursuant to Section 7 of the Natural Gas Act (NGA) and the Commission's Rules and Regulations for a limited term certificate of public convenience and necessity authorizing Equitrans to install and operate one 1,340 horsepower leased compressor unit and related facilities for a limited period beginning January 1, 2001, and ending April 1, 2001, in order to provide an additional 12,000 Mcf per day to be transported between Sleepy Hollow Compressing Station (Sleepy Hollow) and the Pennview Compressing Station (Pennview), all as more fully set forth in the application which is on file with the Commission and open to public inspection. The filing may be viewed at http://www.ferc.fed.us/online/rims.htm (call 202-208-2222 for assistance).

Equitrans states that Sleepy Hollow falls within Texas Eastern Zone M-2. Pennview is in Texas Eastern's Zone M-3. Although the distance is only approximately 24 miles, this is an area of constrained capacity. The ability to take gas from Texas Eastern just west of Sleepy Hollow and redeliver that gas east of Pennview will help alleviate a capacity bottleneck this winter. Equitrans further states that the capacity to be created by this application is fully subscribed, and that the revenue to be received by Equitrans is significantly more than the cost of installing the temporary compression, and therefore Equitrans' existing customers will not subsidize the proposed service, consistent with the Commission's policy statement. Equitrans also avers that if approval is granted for the proposed increase in capacity, the operating pressure of Equitrans' H-156 line will, under no circumstances, exceed the established maximum allowable operating pressure (MAOP) of 1150 psig. for the existing pipeline. Sufficient overpressure protection has been installed in accordance with 49 CFR Part 192 in order to maintain the integrity of the pipeline system.

There are two ways to become involved in the Commission's review of this project. First, any person wishing to obtain legal status by becoming a party to the proceedings for this project should, on or before December 18, 2000, file with the Federal Energy Regulatory Commission, 888 first Street, NE., Washington, DC 20426, a motion to intervene in accordance with the requirements of the Commission's Rules of Practice and Procedure (18 CFR 385.214 or 385.211) and the Regulations under the NGA (18 CFR 157 10). A person obtaining party status will be placed on the service list maintained by the Secretary of the Commission and will receive copies of all documents filed by the applicant and by all other parties. A party must submit 14 copies of filings made with the Commission and must mail a copy to the applicant and to every other party in the proceeding. Only parties to the proceedings can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provide by the project. Therefore, if a person has comments on community and landowner impacts from this proposal it is important either to file comments or to intervene as early in the process as possible.

Comments and protests may be filed electronically via the internet in lieu of paper. See, 18 CFR 385.2001(a)(1)(iii) and the instructions on the Commission's web site at http://www.ferc.fed.us/efi/doorbell.htm.

If the Commission decides to set the application for a formal hearing before an Administrative Law Judge, the Commission will issue another notice describing that process. At the end of the Commission's review process a final Commission order approving or denying a certificate will be issued.

David P. Boergers,
Secretary.

[FR Doc. 00-31571 Filed 12-11-00; 8:45 am]

BILLING CODE 6717-01-M